ENVIRONMENTAL PROTECTION AGENCY

[EPA-HQ-OW-2015-0667; FRL-9936-59-OW]

National Wetland Condition Assessment 2011 Draft Report

AGENCY: Environmental Protection Agency (EPA).

ACTION: Notice.

SUMMARY: This notice announces the availability of EPA's draft report on the National Wetland Condition Assessment (NWCA 2011) and opens a 30-day public review and comment period on the draft report. The NWCA 2011 is the first national assessment of the ecological condition of the nation's wetlands. The NWCA 2011 draft report describes the results of a nationwide probabilistic survey of wetlands conducted in the spring and summer of 2011 by EPA and its state and tribal partners. Results are based on ecological data collected at over 1,000 sites using standardized protocols and include estimates of wetland area in “good,” “fair,” and “poor” condition, nationally and by ecoregion, for a biological indicator based on plants and key wetland stressors. The report also provides information on the design and implementation of the scientific assessment, possible implications, and future actions. This report completes the first series of probability-based surveys conducted under EPA's National Aquatic Resource Surveys program.

DATES: Comments must be received on or before December 7, 2015.

ADDRESSES: Submit your comments, identified by Docket ID No. EPA-HQ-OW-2015-0667, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Gregg Serenbetz, Wetlands Division, Office of Water (4502T), Environmental Protection Agency, 1200 Pennsylvania Avenue NW., Washington, DC 20460; telephone number: 202-566-1253; email address: serenbetz.gregg@epa.gov.

SUPPLEMENTARY INFORMATION: The National Wetland Condition Assessment 2011: A Collaborative Survey of the Nation's Wetlands is the first report assessing the condition of the nation's wetlands and the fifth report in a series of National Aquatic Resource Surveys (NARS), a national-scale monitoring program designed to produce statistically-valid assessments that answer critical questions about the condition of waters in the United States.

The key goals of the NWCA are to (1) describe the ecological condition of the nation's wetlands and stressors commonly associated with poor condition; (2) collaborate with states and tribes in developing complementary monitoring tools, analytical approaches, and data management technology to aid wetland protection and restoration programs; and (3) advance the science of wetland monitoring and assessment to support wetland management needs. EPA began planning activities for the NWCA in 2006 and engaged with a broad group of stakeholders including state environmental and natural resource agencies, tribes, federal agencies, academia, and other organizations to help inform different aspects of the assessment.

Both tidal and nontidal wetlands were targeted for sampling. To select wetland sites for sampling, EPA used the same digital map of wetland locations that the U.S. Fish and Wildlife Service uses in their Wetland Status and Trends program. While not a comprehensive map of all wetlands throughout the U.S., these mapped locations are used to statistically represent the extent of wetlands nationally. Sampling sites for the NWCA were randomly selected from this digital map and distributed based on the prevalence of wetlands across the U.S. using a survey design that ensures the results reflect the full range of wetlands in the target population. Each wetland site was sampled using standardized field protocols to collect ecological data on plants, soil, water chemistry, algae, and wetland stressors. The use of standardized field and laboratory protocols is another key feature of the NWCA and allows the data to be combined to produce a nationally consistent assessment. The results presented in the NWCA 2011 report are based on data from 1,138 wetland sites sampled during the spring and summer of 2011 in the conterminous U.S. (41 sites sampled in Alaska are not included in the national and regional results in the report). The NWCA 2011 report describes the ecological condition of wetlands nationally and in four ecoregions (Coastal Plains, Eastern Mountains and Upper Midwest, Interior Plains, and West) using a biological indicator of condition and several physical, chemical, and biological indicators of stress.

This is the first time a national monitoring study of the ecological condition of wetlands has been conducted. Under the NARS program, studies have been completed for wadeable streams (2004), lakes (2007), rivers and streams (2008-2009), and coastal waters (2010). The release of the NWCA 2011 final report will complete the first full cycle of NARS reports. EPA and our partners plan to continue to assess each of these water body types on a five year rotating basis.

This draft report has undergone external peer review. States and other stakeholders also reviewed and commented on the draft report. The purpose of this action is to solicit public comment on the draft report before finalizing it. EPA is seeking comment on the information contained in the draft report, the reasonableness of the conclusions, and the clarity with which the information is presented. The draft report and other supporting materials may also be viewed and downloaded from EPA's Web site at http://www2.epa.gov/national-aquatic-resource-surveys/national-wetland-condition-assessment.

Dated: October 28, 2015.
Kenneth J. Kopocis,
Deputy Assistant Administrator, Office of Water.

[FR Doc. 2015-28266 Filed 11-4-15; 8:45 am]

BILLING CODE 6560-50-P